NATIONAL TRANSPORTATION SAFETY BOARD

Notice of Sunshine Act Meeting

TIME AND DATE: 9:30 a.m., Tuesday, April 10, 2012.

PLACE: NTSB Conference Center, 429 L'Enfant Plaza SW., Washington, DC 20594.

STATUS: The ONE item is open to the public.

Matter To Be Considered

8349A Safety Recommendations to the National Air Racing Group (NAG) Unlimited Division and Reno Air Racing Association (RARA) concerning the September 16, 2011, accident at the Reno National Championship Air Races (NCAR) in Reno, Nevada.

NEWS MEDIA CONTACT: Telephone: (202) 314-6100.

The press and public may enter the NTSB Conference Center one hour prior to the meeting for set up and seating.

Individuals requesting specific accommodations should contact Rochelle Hall at (202) 314-6305 by Friday, April 6, 2012.

The public may view the meeting via a live or archived webcast by accessing a link under “News & Events” on the NTSB home page at www.ntsb.gov.

Schedule updates including weather-related cancellations are also available at www.ntsb.gov.

FOR MORE INFORMATION CONTACT: Candi Bing, (202) 314-6403 or by email at bingc@ntsb.gov.

Dated: April 23, 2012.
Candi R. Bing,
Federal Register Liaison Officer.

[FR Doc. 2012-7462 Filed 3-23-12; 4:15 pm]

BILLING CODE 7533-01-P